DEPARTMENT OF LABOR

Employment and Training Administration

[TA-W-38,476]

Raider Apparel Inc., Alma, GA; Notice of Termination of Investigation

Pursuant to Section 221 of the Trade Act of 1974, an investigation was initiated on December 27, 2000 in response to a petition filed on behalf of workers at Raider Apparel Inc., Alma, Georgia.

An active certification covering the petitioning group of workers remains in effect (TA-W-36,121). Consequently, further investigation in this case would serve no purpose, and the investigation has been terminated.

Signed in Washington, DC this 23rd day of April, 2001.
Linda G. Poole,
Certifying Officer, Division Trade Adjustment Assistance.

[FR Doc. 01-11098 Filed 5-2-01; 8:45 am]

BILLING CODE 4510-30-M